FEDERAL FINANCIAL INSTITUTIONS EXAMINATION COUNCIL

[Docket No. AS14-02]

Appraisal Subcommittee; Rules of Operation; Amendment

AGENCY: Appraisal Subcommittee of the Federal Financial Institutions Examination Council.

ACTION: Notice of amendment to rules governing frequency of regular meetings of the Appraisal Subcommittee.

SUMMARY: The Appraisal Subcommittee (ASC) of the Federal Financial Institutions Examination Council is amending the following section:

Section 3.06(e) of the Rules of Operation, which addresses the scheduling of regular meetings of the ASC. As amended, the ASC will meet at least once every two months (bi-monthly) instead of monthly.

DATES: Effective Date: Immediately.

FOR FURTHER INFORMATION CONTACT: James R. Park, Executive Director, at (202) 595-7575, or Alice M. Ritter, General Counsel, at (202) 595-7577, via Internet email at jim@asc.gov and alice@asc.gov, respectively, or by U.S. Mail at Appraisal Subcommittee, 1401 H Street NW., Suite 760, Washington, DC 20005.

SUPPLEMENTARY INFORMATION: The ASC, on May 29, 1991, adopted Rules of Operation, which were published at 56 FR 28561 (June 21, 1991). The Rules of Operation describe, among other things, the organization of ASC Meetings, notice requirements for Meetings, quorum requirements and certain practices regarding the disclosure of information. The ASC, at its December 11, 2013 Meeting, voted to approve bi-monthly Meetings of the ASC beginning in February 2014 rather than monthly Meetings.

The ASC is publishing amended Section 3.06(e) to conform with 5 U.S.C. 552(a)(1)(C), which requires the publication of agency rules of operation in the Federal Register. The notice and publication requirements of 5 U.S.C. 553 do not apply to the adoption of Section 3.06(e) because it is a “rule of agency organization, procedure, or practice” exempt from the public notice and comment process under 5 U.S.C. 553(b)(3)(A).

Based on the foregoing, the ASC adopts amended Section 3.06(e) of the Rules of Operation, as follows, effective immediately:

Rules of Operation

* * *

Article III Organization and Operation of the ASC

* * *

Section 3.06. Organization of Subcommittee Meetings.

* * *

(e) Regular meetings of the ASC shall be held at least once every two months (bi-monthly), unless not practicable, at the call of the Chairperson. Special meetings shall be held as provided in section 3.07(b) below.

* * *

By the Appraisal Subcommittee.
Dated: February 12, 2014.
Arthur Lindo,
Chairman.

[FR Doc. 2014-03637 Filed 2-19-14; 8:45 am]

BILLING CODE P